DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Evaluation of the SOAR Technical Assistance Effort—NEW

SAMHSA will evaluate the implementation and outcomes of the Supplemental Security Income (SSI)/Social Security Disability Income (SSDI) Outreach Access and Recovery (SOAR) technical assistance (TA) effort. The SSI and SSDI programs provide cash assistance to individuals with qualifying disabilities. SOAR aims to increase access to these programs among people who are homeless and thereby improve their quality of life. The crux of the effort is the provision of TA to help states and local communities develop strategies to increase the quality of SSI/SSDI applications homeless individuals submit.

To evaluate SOAR's implementation and outputs, SAMHSA will collect data from the following sources:

• In-person interviews with state and local SOAR stakeholders;

• A social network survey of state and local SOAR stakeholders;

• Focus groups with participants of in-person SOAR trainings;

• Evaluative materials completed by participants of in-person SOAR trainings, including pre/post training evaluation forms and a customer satisfaction survey;

• Evaluative materials completed by users of web-based SOAR trainings, including pre/post training evaluation screens and an online customer satisfaction survey.

The first four data collections will be conducted in eight local communities in eight different states that will begin receiving federally-funded SOAR TA for the first time in 2010. For the fifth data collection, SAMHSA will collect data from pre- and post-training evaluation forms and a customer satisfaction survey nationwide for users of a newly developed web-based SOAR training.

Respondents to the in-person interviews and social network survey will include an average of 15 state and local SOAR stakeholders in each of the eight local communities included in the study (for a total of 120 respondents). Stakeholders include state and local SOAR leaders, administrators and staff from Social Security Administration field offices and state Disability Determination Services offices, SOAR trainers, and administrators and staff from state mental health agencies, housing and other public assistance agencies, homeless service providers, and community-based agencies. Focus group respondents will include an average of 11 individuals who participated in an in-person SOAR training in each of the eight local communities included in the study (for a total of 88 respondents). The majority of respondents will be staff from community-based agencies. Respondents to the in-person training evaluative materials include an average of 15 individuals who participated in the first in-person training in each of the eight local communities included in the study (for a total of 120 respondents). Respondents to the web-based training evaluative materials will be the universe of users who ever log on to the web-based training and receive a user identification number, regardless of in which state or community users reside. SAMHSA anticipates that 2,706 users will access the web-based training in lieu of attending an in-person training. These users will complete all three components of the evaluative materials. In addition, SAMHSA anticipates that 2,050 users will access the web-based training to refresh or supplement what they learned in an in-person training. These users will complete only the first portion of the pre-training evaluation form, which asks for basic background information about the user.

Burden Estimates
Data collection activity | Estimated number of respondents | Responses per respondent | Total responses | Average hours per response | Total hour burden
In-person interviews | 120 | 1 | 120 | 1 | 120
Social network survey | 120 | 1 | 120 | .17 | 20.4
Focus groups | 88 | 1 | 88 | 1.5 | 132
Subtotal | 328 | — | 328 | — | 272.4
In-person Training Evaluative Materials
Pre-training evaluation form | 120 | 1 | 120 | .17 | 20.4
Post-training evaluation form | 120 | 1 | 120 | .17 | 20.4
Customer satisfaction survey | 120 | 1 | 120 | .17 | 20.4
Subtotal | 120 | — | 360 | — | 61.2
Web-based Training Evaluative Materials
Pre-training evaluation form | 2,706 | 1 | 2,706 | .17 | 460
Post-training evaluation form | 2,706 | 1 | 2,706 | .17 | 460
Customer satisfaction survey | 2,706 | 1 | 2,706 | .17 | 460
Background form | 2,050 | 1 | 2,050 | .10 | 205
Subtotal | 4,756 | — | 10,168 | — | 1,585
Total | 5,084 | — | 10,856 | — | 1918.6

SAMHSA will use the information from the evaluation to demonstrate the effectiveness of the SOAR TA effort and determine whether it is worthy of future investment. The evaluation also is designed to enable a review of SOAR for inclusion in SAMHSA's National Registry of Evidence-based Programs and Practices (NREPP). In addition, results from the SOAR evaluation will inform future planning around Government Performance and Results Act (GPRA) reporting. SAMHSA anticipates producing a final evaluation report that will be made available to the public.

Send comments to Summer King, SAMHSA Reports Clearance Officer, Room 7-1044, One Choke Cherry Road, Rockville, MD 20857 AND e-mail a copy to summer.king@samhsa.hhs.gov. Written comments should be received within 60 days of this notice.

Dated: August 10, 2010.
Elaine Parry,
Director, Office of Program Services.

[FR Doc. 2010-20262 Filed 8-16-10; 8:45 am]

BILLING CODE 4162-20-P